FEDERAL COMMUNICATIONS COMMISSION

47 CFR Part 73

[MB Docket No. 21-10; RM-11873; DA 21-422; FR ID 21670]

Television Broadcasting Services; Jefferson City, Missouri

AGENCY: Federal Communications Commission.

ACTION: Final rule.

SUMMARY: On January 12, 2021, the Media Bureau, Video Division (Bureau) issued a Notice of Proposed Rulemaking in response to a petition for rulemaking filed by KRCG Licensee, LLC (Licensee), the licensee of KRCG, channel 12 (CBS), Jefferson City, Missouri, requesting the substitution of channel 29 for channel 12 at Jefferson City in the DTV Table of Allotments. For the reasons set forth in the Report and Order referenced below, the Bureau amends FCC regulations to substitute channel 29 for channel 12 at Jefferson City.

DATES: Effective April 23, 2021.

FOR FURTHER INFORMATION CONTACT: Joyce Bernstein, Media Bureau, at (202) 418-1647 or Joyce.Bernstein@fcc.gov.

SUPPLEMENTARY INFORMATION: The proposed rule was published at 86 FR 10033 on February 18, 2021. The Licensee filed comments in support of the petition reaffirming its commitment to applying for channel 29. No other comments were received. In support, the Licensee stated that VHF channels have certain propagation characteristics which may cause reception issues for some viewers, and that KRCG has received numerous complaints from viewers unable to receive the Station's over-the-air signal, despite being able to receive signals from other stations. The Licensee also stated that its channel substitution proposal will improve reception for indoor antenna and greatly improve KRCG's ability to provide ATSC 3.0 service to homes, vehicles, and portable devices. The Bureau believes the public interest would be served by the substitution and will permit KRCG to better serve its viewers, who have experienced reception problems with VHF channel 12. In addition, operation on channel 29 will not result in any predicted loss of service.

This is a synopsis of the Commission's Report and Order, MB Docket No. 20-10; RM-11873; DA 21-422, adopted April 14, 2021, and released April 14, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(i), amend the Post-Transition Table of DTV Allotments, under Missouri, by revising the entry for Jefferson City to read as follows:

§ 73.622 Digital television table of allotments.

* * * * *

(i) * * *

Community | Channel No.
* * * * *
MISSOURI
* * * * *
Jefferson City | 20, 29
* * * * *

[FR Doc. 2021-08291 Filed 4-22-21; 8:45 am]

BILLING CODE 6712-01-P